DEPARTMENT OF THE INTERIOR

National Park Service

[N6590; NPS-WASO-NAGPRA-NPS0041299; PPWOCRADN0-PCU00RP14.R50000]

Notice of Inventory Completion: Heard Museum, Phoenix, AZ

AGENCY: National Park Service, Interior.

ACTION: Notice.

SUMMARY: In accordance with the Native American Graves Protection and Repatriation Act (NAGPRA), the Heard Museum has completed an inventory of human remains and associated funerary objects and has determined that there is a cultural affiliation between the human remains and associated funerary objects and Indian Tribes or Native Hawaiian organizations in this notice.

DATES: Repatriation of the human remains and associated funerary objects in this notice may occur on or after December 18, 2025.

ADDRESSES: Send written requests for repatriation of the human remains and associated funerary objects in this notice to David Roche, Director/CEO, Heard Museum, 2301 N Central Avenue, Phoenix, AZ 85004, email director@heard.org.

SUPPLEMENTARY INFORMATION: This notice is published as part of the National Park Service's administrative responsibilities under NAGPRA. The determinations in this notice are the sole responsibility of the Heard Museum, and additional information on the determinations in this notice, including the results of consultation, can be found in its inventory or related records. The National Park Service is not responsible for the determinations in this notice.

Abstract of Information Available

Human remains representing at least two individuals have been identified. The one lot of associated funerary objects are Olivella shell beads, turquoise and shell pendants, disc beads, burned worked (faunal) bone, whole shell beads, points, stone beads and pendants, worked stone, conus tinkler fragment, Glycymeris shell bracelet fragments, worked ceramic pieces, shell disc beads, a faunal bone bead awl. Circumstances and date of acquisition unknown. 159: A display frame containing teeth from the minimum of two individuals and the one lot of associated funerary objects was located during the 1990-1991 full collections inventory. No information was located in the original Heard catalogue. Consultation in 2023 determined the need for further research on pottery type of the worked ceramic pieces. No pottery identification was concluded but the volume of Glycymeris shell bracelet fragments was noteworthy. Exposure to hazardous substances is unlikely.

Human remains representing at least one individual have been identified. The one lot of associated funerary objects are plain and redware pottery sherds, a stone rasp for shell jewelry manufacture, and a perforated raptor claw. Circumstances and date of acquisition unknown. 3288-4: A box containing the minimum one individual and one lot of associated funerary objects was discovered and subsequently accessioned during the 1990-1991 full collections inventory. No information was located in the original Heard catalogue. Consultation in 2023 determined the need for further research on pottery type and raptor identification. The stone tool was also identified at this time. Exposure to hazardous substances is unlikely.

Human remains representing at least one individual have been identified. The one lot of associated funerary objects are a charred awl and animal bone. Circumstances and date of acquisition unknown. 3288-5: A box containing charred bones from the minimum one individual and one lot of associated funerary objects was discovered and subsequently accessioned during the 1990-1991 full collections inventory. No information was located in the original Heard catalogue. Exposure to hazardous substances is unlikely.

Human remains representing at least one individual have been identified. The one associated funerary object is a Glycymeris shell bracelet fragment. Circumstances and date of acquisition unknown. 3288-6: The cremated bone and shell bracelet fragment was discovered and subsequently accessioned during the 1990-1991 full collections inventory. No information was located in the original Heard catalogue. Consultation in 2002 ruled out a Plains cultural affiliation. Exposure to hazardous substances is unlikely.

Human remains representing at least one individual have been identified. The one lot of associated funerary objects are pottery sherds, a spindle whorl, a stone pallet fragment, coral, oyster shell, Glycymeris shell, and historic pottery sherds and plaster. Circumstances of acquisition unknown, date of acquisition is estimated. 4368-1: Container(s) with the minimum one individual and one lot of associated funerary objects were discovered and subsequently accessioned during the 1990-1991 full collections inventory. No information was located in the original Heard catalogue. Consultation in 2023 determined the need for further research on origin of the associated funerary objects. Most objects suggest a geographic location of the southwestern U.S. in general and Phoenix, AZ in particular. Exposure to hazardous substances is unlikely.

Human remains representing at least one individual have been identified. The one associated funerary object is a Golden Eagle skull. Circumstances and date of acquisition unknown. NA-SW-PR-T-2: A box containing the minimum one individual and associated Golden Eagle skull was discovered and subsequently accessioned during the 1990-1991 full collections inventory. Consultation in 2023 led to the identification of the bird skull as Golden Eagle, from southern Arizona. Exposure to hazardous substances is unlikely.

Cultural Affiliation

Based on the information available and the results of consultation, cultural affiliation is reasonably identified by the geographical location or acquisition history of the human remains and associated funerary objects described in this notice.

Determinations

The Heard Museum has determined that:

• The human remains described in this notice represent the physical remains of seven individuals of Native American ancestry.

• The six objects described in this notice are reasonably believed to have been placed intentionally with or near individual human remains at the time of death or later as part of the death rite or ceremony.

• There is a connection between the human remains and associated funerary objects described in this notice and the Gila River Indian Community of the Gila River Indian Reservation, Arizona.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after December 18, 2025. If competing requests for repatriation are received, the Heard Museum must determine the most appropriate requestor prior to repatriation. Requests for joint repatriation of the human remains and associated funerary objects are considered a single request and not competing requests. The Heard Museum is responsible for sending a copy of this notice to the Indian Tribes and Native Hawaiian organizations identified in this notice and any other consulting parties.

Authority: Native American Graves Protection and Repatriation Act, 25 U.S.C. 3003, and the implementing regulations, 43 CFR 10.10.

Dated: September 30, 2025.
Melanie O'Brien,
Manager, National NAGPRA Program.

[FR Doc. 2025-20108 Filed 11-17-25; 8:45 am]

BILLING CODE 4312-52-P